ENVIRONMENTAL PROTECTION AGENCY

[ER-FRL-6641-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 4, 2003 (68 FR 16511).

Draft EISs

ERP No. D-AFS-K65254-AZ Rating LO, Cross-County Travel by Off-Highway Vehicle Project, Motorized Wheeled Cross-Country Travel Restrictions, Apache-Sitegreaves, Conino, Kaibab, Prescott and Tonto National Forests, AZ.

Summary: EPA had no significant concerns with the preferred alternative.

ERP No. D-AFS-K65255-CA Rating LO, Spalding Land Exchange Project, Proposed Land Exchange between Spalding Community Service District (SCSD) and Lassen National Forest (LNF), Special Use Permit, Lassen County, CA.

Summary: EPA has no significant concerns with the preferred alternative.

ERP No. D-BLM-K65250-NV Rating LO, Black Rock Desert-High Rock Canyon Emigrant Trails National Conservation Area (NCA) and Associated Wilderness and Other Contiguous Lands Resource Management Plan, Implementation, Great Basin, NV.

Summary: EPA had no significant concerns with the preferred alternative.

ERP No. D-FHW-G40173-LA Rating LO, I-49 South Lafayette Regional Airport to LA-88 Route U.S. 90 Project, Upgrading Existing U.S. 90 from the Lafayette Regional Airport to LA-88, Funding, Iberia, Lafayette and St. Martin Parishes, LA.

Summary: EPA has no objection to the selection of the preferred alternative.

ERP No. D-FHW-H40179-MO Rating LO, Missouri River Corridor Widening and Improvements, New Four Lane Expressway, Corridor consist of Four Segments: Front Street, Chouteau Trafficway, South Riverfront Expressway (SRE) and Little Blue Expressway (LBE), Funding, Jackson and Clay Counties, MO.

Summary: EPA has no objections to the proposed project. However, EPA recommends that a chronological evaluation of other planned actions relative to the proposed implementation schedule of the Missouri River Corridor be utilized to derive the preferred alternative.

ERP No. D-NPS-C61055-NJ Rating LO, Morristown National Historical Park General Management Plan, Implementation, Morris and Somerset Counties, NJ.

Summary: EPA has no objections with the management plan and requests the opportunity to review future NEPA documents prepared for specific actions outlined in the programmatic plan.

ERP No. DA-FHW-B40037-RI Rating EC2, Jamestown Bridge Replacement Project, New Information Regarding the Demolition of the Old Jamestown Bridge (Bridge No. 400), Federal Aid Project Number (BRF-0138(002), U.S. Coast Guard Bridge, NPDES and U.S. Army COE Section 404 Permits Issuance, Towns of North Kingstown and Jamestown, Washington and Newport Counties, RI.

Summary: EPA expressed environmental concerns and requested additional information to more fully describe flora and fauna to the project area and the existing conditions at candidate reef sites; to document the impacts associated with both the demolition and disposal phases of the project; and to address air quality issues associated with the work.

ERP No. DS-FTA-C40150-NY Rating EC2, Second Avenue Subway Project, Transit Access Improvements to Manhattan's East Side and Excess Crowd Reduction on the Lexington Avenue Subway, Funding, New York, NY.

Summary: EPA has environmental concerns with the proposed project's air quality impacts, particularly carbon monoxide (CO) and particulate matter, as well as wetland impacts.

Final EISs

ERP No. F-AFS-F65032-MN Holmes/Chipmunk Timber Sale Project, Implementation, Superior National Forest, LaCroix Ranger District, Saint Louis County, MN.

Summary: EPA determined that previous environmental concerns have been addressed in this Final EIS.

ERP No. F-AFS-K65245-AZ Kachina Village Forest Health Project, Forest Health Improvements and Potential Wildfire Reductions on National Forest System Land, Implementation, Coconino National Forest, Mormon Lake Ranger District, Coconino County, AZ.

Summary: No formal comment letter was sent to the preparing agency.

ERP No. F-BLM-K09808-NV Ivanpah Energy Center Project, 500 Megawatt (MW) Gas-Fired Electric Power Generating Station Construction and Operation, Approval, Right-of-Way Grant, BLM Temporary Use Permit, FHWA Permit to Cross Federal Aid Highway, U.S. Army COE Section 10 and 404 Permits and NPDES Permit Issuance, Clark County, NV.

Summary: No formal comment letter was sent to the preparing agency.

ERP No. F-FHW-E40783-SC Dave Lyle Boulevard Extension on New Location, SC-161/Dave Lyle Boulevard Intersection in York County to SC-75, at the US-521/SC-75 Intersection, near the South Carolina/North Carolina Border in Lancaster, Funding, York and Lancaster Counties, SC.

Summary: EPA continues to have environmental concerns with the proposed project regarding impacts and mitigation for endangered species, wetlands, and traffic noise.

ERP No. F-FHW-F40410-IL Milan Beltway Extension, Airport Road to Blackhawk Road/John Deere Expressway, Funding and Permits Issuance, Rock River, Rock Island County, IL.

Summary: EPA has no objections to the preferred alternative, which we believe will have minimal environmental impacts, provided mitigation is implemented, and which meets the stated purpose of addressing area traffic volume.

ERP No. F-FHW-K40247-CA CA-22/West Orange County Connection Project, Transportation Improvements between I-605 and CA-55, Funding, Cities of Los Alamitos, Seal Beach, Garden Grove, Westminster, Santa Ana and Orange, Orange County, CA.

Summary: EPA has no objections to the proposed project. However, EPA asked that FHWA's Record of Decision clarify if the project disturbs or removes polychlorinated biphenyls (PCBs), a toxic substance, at facilities or structures proposed for displacement.

ERP No. F-JUS-K81028-CA Juvenile Justice Facility and East County Hall of Justice Development, Potential Construction of Both Projects on the Same Site or on Separate Sites, Alamenda County, CA.

Summary: EPA expressed a lack of objections to this project.

ERP No. F-NPS-K65239-AZ Tonto National Monument General Management Plan, New Administrative Facility Construction within the Monument Boundaries, Implementation, AZ.

Summary: No formal comment letter was sent to the preparing agency.

ERP No. FS-AFS-L61199-ID Salmon Wild and Scenic River Management Plan, Timeline Change From December 31, 2002 to December 31, 2005 and Clarification of Economic Impacts on the Camps, Stub Creek, Arctic Creek and Smith Gulch Creek, Salmon National Forest, Salmon County, ID.

Summary: No formal comment letter was sent to the preparing agency.

Dated: June 30, 2003.
Joseph C. Montgomery,
Director, NEPA Compliance Division, Office of Federal Activities.

[FR Doc. 03-16848 Filed 7-2-03; 8:45 am]

BILLING CODE 6560-50-P